DEPARTMENT OF THE INTERIOR

Bureau of Land Management

[WY-957-04-1910-BJ-4467]

Notice of Filing of Plats of Survey, Wyoming

AGENCY: Bureau of Land Management, Interior.

SUMMARY: The Bureau of Land Management (BLM) is scheduled to file the plats of surveys of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys were executed at the request of the Bureau of Indian Affairs and are necessary for the managements of lands. The lands surveyed are:

The plat and field notes representing the dependent resurvey of a portion of the North boundary and subdivisional lines, and the subdivision of section 3, Township 1 North, Range 4 East, Wind River Meridian, Wyoming, was accepted May 18, 2004.

The plat and field notes representing the dependent resurvey of a portion of the subdivision of section 23, and the survey of the subdivision of section 23, and the metes and bound survey of Parcels G and H, section 23, Township 1 South, Range 1 West, Wind River Meridian, Wyoming, was accepted May 18, 2004.

The plat and field notes representing the dependent resurvey of a portion of the South boundary, and the subdivisional lines, and the subdivision of section 35, Township 2 North, Range 4 East, Wind River Meridian, Wyoming, was accepted May 18, 2004.

The plat and field notes representing the dependent resurvey of portions of the South and West boundaries and subdivisional lines, and the subdivision of section 31, Township 2 North, Range 3 East, Wind River Meridian, Wyoming, was accepted May 18, 2004.

The plat and field notes representing the dependent resurvey of a portion of the subdivisional lines, and a portion of the subdivision of section 17, and the survey of the subdivision of section 17, and the metes and bounds survey of Lots 5 and 6, section 17, Township 2 South, Range 1 East, Wind River Meridian, Wyoming, was accepted May 18, 2004.

Copies of the preceding described plats and field notes are available to the public at $1.10 each.

Dated: May 20, 2004.
John P. Lee,
Chief Cadastral Surveyor, Division of Support Services.

[FR Doc. 04-12003 Filed 5-26-04; 8:45 am]

BILLING CODE 4467-22-P